DEPARTMENT OF LABOR

Employment and Training Administration

Notice of Funding Opportunity and Solicitation for Grant Applications (SGA) for Ex Offenders—Adult Program Grants

AGENCY: Employment and Training Administration, Labor.

ACTION: Notice of Solicitation for Grant Applications (SGA).

Funding Opportunity Number: SGA/DFA PY 10-10.

SUMMARY: Through this notice, the U.S. Department of Labor's (the “Department”) Employment and Training Administration (ETA) announces the availability of approximately $11.7 million in grant funds to provide pre-release and post-release services to ex-offenders returning to high poverty, high-crime communities. These services will include job training and employment preparation, mentoring, and assistance connecting to supportive services such as housing, substance abuse programs and mental health treatment. Specifically, the employment component of the grant will focus on the development of employment opportunities in in-demand occupations, including emerging “green” jobs. These grants will be awarded through a competitive process. The Department expects to award approximately 10 grants of approximately $1,170,000 each for a 27-month period of performance.

The complete SGA and any subsequent SGA amendments, in connection with this solicitation is described in further detail on ETA's Web site at http://www.doleta.gov/grants/find_grants.cfm or on http://www.grants.gov. The Web sites provide application information, eligibility requirements, review and selection procedures and other program requirements governing this solicitation.

DATES: The closing date for receipt of applications is March 17, 2011.

FOR FURTHER INFORMATION CONTACT: Brinda Ruggles, 200 Constitution Avenue, NW., Room N4716, Washington, DC 20210; Telephone: 202-693-3437; E-mail: ruggles.brinda@dol.gov.

Signed in Washington, DC, this 8th day of February 2011.
Eric Luetkenhaus,
Grant Officer, Employment and Training Administration.

[FR Doc. 2011-3151 Filed 2-10-11; 8:45 am]

BILLING CODE 4510-FN-P